ENVIRONMENTAL PROTECTION AGENCY

[OPP-2002-0305; FRL-7281-6]

Pesticides; Final Guidance for Pesticide Registrants on Labeling of Pesticide Products Under the National Organic Program

AGENCY: Environmental Protection Agency (EPA).

ACTION: Notice of availability.

SUMMARY: The Agency is announcing the availability of a pesticide registration notice (PR Notice) titled “Labeling of Pesticide Products Under the National Organic Program.” This PR Notice was issued by the Agency on January 31, 2003 and is identified as PR Notice 2003-1. PR Notices are issued by the Office of Pesticide Programs (OPP) to inform pesticide registrants and other interested persons about important policies, procedures, and registration related decisions, and serve to provide guidance to pesticide registrants and OPP personnel. This particular final PR Notice provides guidance to the registrant concerning obtaining EPA approval of pesticide product label language indicating that all ingredients (active and inert) in a pesticide product and all uses of that pesticide product meet the criteria defined in the National Organic Program Rule. This notice is being issued because of registrant requests to be able to identify, on pesticide product labels, pesticide products that are allowable under the National Organic Program.

FOR FURTHER INFORMATION CONTACT: Robert Torla, Biopesticides and Pollution Prevention Division (7511C), Office of Pesticide Programs, Environmental Protection Agency, 1200 Pennsylvania Ave., NW., Washington, DC 20460-0001; telephone number: (703) 308-8098; fax number: (703) 308-7026; e-mail address: torla.robert@epa.gov.

SUPPLEMENTARY INFORMATION:

I. Does this Action Apply to Me?

This action is directed to the public in general. Although this action may be of particular interest to those persons who wish to consider including language on their pesticide labeling identifying their pesticide product as allowable under the National Organic Program. Since other entities may also be interested, the Agency has not attempted to describe all the specific entities that may be affected by this action. If you have any questions regarding the information in this notice, consult the person listed under FOR FURTHER INFORMATION CONTACT.

II. What Guidance Does this PR Notice Provide?

This PR Notice provides guidance to the registrant concerning how registrants may obtain EPA approval of label language indicating that all ingredients (active and inert) in a pesticide product and all uses of that product meet the criteria defined in the National Organic Program Rule (7 CFR part 205). This notice provides information on:

1. The conditions which must be met for approval of the label language.

2. An example of acceptable label language.

3. Guidance on materials to be submitted for Agency review.

4. Guidance for inserting label language on pesticide products exempted from FIFRA regulation under 40 CFR 152.25.

III. Do PR Notices Contain Binding Requirements?

The PR Notice discussed in this notice is intended to provide guidance to EPA personnel and decision makers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

IV. How Can I Get Copies of this Document and Other Related Information?

A. Docket

EPA has established an official public docket for this action under docket identification (ID) number OPP-2002-0305. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This Docket Facility is open from 8:30 a.m. to 4 p.m., Monday through Friday, excluding legal holidays. The Docket telephone number is (703) 305-5805.

B. Electronic Access

You may access this Federal Register document electronically through the EPA Internet under the “Federal Register” listings at http://www.epa.gov/fedrgstr/. You may obtain an electronic copy of other PR Notices, both final and draft, at http://www.epa.gov/opppmsd1/PR_Notices.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit IV.A. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

List of Subjects

Environmental protection, Administrative practice and procedure, Agricultural commodities, Pesticides and pests.

Dated: January 31, 2003.
Marcia E. Mulkey,
Director, Office of Pesticide Programs.

[FR Doc. 03-4775 Filed 3-4-03; 8:45 am]

BILLING CODE 6560-50-S